DEPARTMENT OF HEALTH AND HUMAN SERVICES

Public Health Service

National Institute of Environmental Health Sciences (NIEHS); National Toxicology Program (NTP)

Report of the International Workshop on In Vitro Methods for Assessing Acute Systemic Toxicity; Guidance Document on Using In Vitro Data to Estimate In Vivo Starting Doses for Acute Toxicity: Notice of Availability and Request for Public Comment.

Summary

Notice is hereby given of the availability of the reports entitled, “Report of the International Workshop on In Vitro Methods for Assessing Acute Systemic Toxicity” NIH Publication 01-4499 and “Guidance Document on Using In Vitro Data to Estimate In Vivo Starting Doses for Acute Toxicity” NIH Publication 01-4500. The Report provides conclusions and recommendations from expert scientists based on their review of current in vitro methods for assessing acute toxicity at an October 17-20, 2000 workshop. The workshop was organized by the National Toxicology Program Interagency Center for the Evaluation of Alternative Toxicological Methods (NICEATM) and the Interagency Coordinating Committee on the Validation of Alternative Methods (ICCVAM). The Guidance Document provides Standard Operating Procedures (SOPs) for performing two in vitro basal cytotoxicity assays and describes how to use this in vitro data to predict starting doses for in vivo acute oral toxicity studies.

Availability of the Documents

To receive a copy of either report, please contact NICEATM at P.O. Box 12233, MD EC-17, Research Triangle Park, NC 27709 (mail), 919-541-3398 (phone), 919-541-0947 (fax), or niceatm@niehs.nih.gov (email). The reports are also available on the ICCVAM/NICEATM website at http://iccvam.niehs.nih.gov.

Request for Public Comments

NICEATM invites written public comments on the Workshop Report and the Guidance Document. Comments should be sent to NICEATM by November 13, 2001. Comments submitted via e-mail are preferred; the acceptable file formats are MS Word (Office 98 or older), plain text, or PDF. Comments should be sent to Dr. William S. Stokes, Director, NICEATM, NIEHS, MD EC-17, PO Box 12233, Research Triangle Park, NC, 27709; telephone 919-541-2384; fax 919-541-0947; e-mail niceatm@niehs.nih.gov. Persons submitting written comments should include their contact information (name, affiliation, address, telephone and fax numbers, and e-mail) and sponsoring organization, if any. Public comments received in response to this Federal Register notice will be posted on the NICEATM/ICCVAM web site (http://iccvam.niehs.nih.gov).

Background

The International Workshop on In Vitro Methods for Assessing Acute Systemic Toxicity was held October 17-20, 2000, at the Hyatt Regency Crystal City Hotel, 2799 Jefferson Davis Highway, Arlington, VA 22202. The workshop was organized by the NICEATM and ICCVAM, and sponsored by the NIEHS, the NTP, and U.S. EPA. The objectives of the workshop were (1) to assess the current validation status of in vitro test methods that might be useful for assessing the acute systemic toxicity potential of chemicals and (2) to develop recommendations for future research, development, and validation studies that might further enhance the use of in vitro methods for this purpose.

A Federal Register notice (Vol. 65, No. 115, pp. 37400-37403, June 14, 2000) requested information and data that should be considered at the workshop, and nominations of expert scientists to participate in the workshop. A second Federal Register notice (Vol. 65, No. 184, pp. 57203-57205, September 21, 2000) announced availability of the workshop agenda, registration information, and a background summary of available in vitro methods.

At the workshop, the invited expert scientists were divided into four breakout groups as follows:

Breakout Group 1: In Vitro Screening Methods for Assessing Acute Toxicity

Breakout Group 2: In Vitro Methods for Toxicokinetic Determinations

Breakout Group 3: In Vitro Methods for Predicting Organ-Specific Toxicity

Breakout Group 4: Chemical Data Sets for Validation of In Vitro Acute Toxicity Test Methods

Each breakout group subsequently prepared a written report that represented the consensus of the invited scientists assigned to that group and these reports are included in the Workshop Report. It also includes as appendices: A detailed workshop agenda; summary minutes of plenary sessions and public comments; the background document for workshop participants; a NICEATM summary of the Multicenter Evaluation of In Vitro Cytotoxicity (MEIC); a summary of Federal regulations on acute toxicity; related Federal Register notices; and ICCVAM test method recommendations. The ICCVAM test recommendations were developed following the workshop to forward to Federal agencies in accordance with Pub. L. 106-545.

The Breakout Group on In Vitro Screening Methods recommended preparation of a document that would provide guidance on how to use in vitro data to estimate starting doses for in vivo acute toxicity studies. Three scientists subsequently collaborated with the NICEATM to develop a “Guidance Document on Using In Vitro Data to Estimate In Vivo Starting Doses for Acute Toxicity”. The Guidance Document provides SOPs for conducting two in vitro cytotoxicity tests (the BALB/c 3T3 Neutral Red Uptake (NRU) and the Normal Human Keratinocyte (NHK) NRU assays) and instruction for using these assays to estimate starting doses for in vivo testing. The Guidance Document also includes the ZEBET (German National Centre for the Documentation and Evaluation of Alternatives to Animal Experimentation) Registry of Cytotoxicity (RC) Regression Analysis that provides a mathematical relationship between acute oral systemic rodent toxicity and in vitro basal cytotoxicity using data for 347 chemicals (Halle, 1998; Spielmann et al., 1999). The Guidance Document expands on an approach suggested by Spielmann and colleagues that—as an initial step—the relationship found with the RC data be used to predict starting doses for subsequent in vivo acute lethality assays.

Additional Information About ICCVAM and NICEATM

ICCVAM, with 15 participating Federal agencies, was established in 1997 to coordinate interagency issues on toxicological test method development, validation, regulatory acceptance, and national and international harmonization. The ICCVAM Authorization Act of 2000 (Pub. L. 106-545) formally authorized and designated ICCVAM as a permanent committee administered by the NIEHS with specific duties that include the technical evaluation of new and alternative testing methods. ICCVAM is charged with developing test recommendations based on those technical evaluations, and forwarding these to Federal agencies for their consideration. The NICEATM was established in 1998 to coordinate and facilitate ICCVAM activities, to provide peer review for validation activities and to promote communication with stakeholders. The NICEATM is located at the NIEHS, Research Triangle Park, NC. Additional information concerning ICCVAM and NICEATM can be found on the ICCVAM/NICEATM web site at http://iccvam.niehs.nih.gov. In accordance with Public Law 106-545, the Workshop Report and the Guidance Document will be forwarded with ICCVAM test recommendations to Federal agencies for their consideration.

References

Halle, W. 1998. Toxizitätsprüfungen in Zellkulturen für eine Vorhersage der akuten Toxizität (LD50) zur Einsparung von Tierversuchen. Life Sciences/Lebenswissenschaften, Volume 1, 94 pp., Jülich: Forschungszentrum Jülich.

Spielmann, H., E. Genschow, M. Liebsch, and W. Halle. 1999. Determination of the starting dose for acute oral toxicity (LD50) testing in the up and down procedure (UDP) from cytotoxicity data. ATLA 27: 957-966.

Dated: September 18, 2001.
Samuel H. Wilson,
Deputy Director, National Institute of Environmental Health Sciences.

[FR Doc. 01-24370 Filed 9-27-01; 8:45 am]

BILLING CODE 4140-01-P